COMMITTEE FOR THE IMPLEMENTATION OF TEXTILE AGREEMENTS

Clarification of Determinations on Handloomed, Handmade, and Folklore Articles under the African Growth and Opportunity Act

July 31, 2003.

AGENCY: Committee for the Implementation of Textile Agreements (CITA).

ACTION: Clarification of Determination.

SUMMARY: The Committee for the Implementation of Textile Agreements (CITA) has determined that handloomed fabrics and handmade articles made from such handloomed fabrics from Kenya, Botswana, Lesotho, Malawi, Swaziland, Namibia and Zambia shall be treated as being “handloomed, handmade, or folklore articles” under the African Growth and Opportunity Act (AGOA), and qualify for duty-free treatment under the AGOA when accompanied by an appropriate AGOA Visa. CITA is clarifying that these determinations include handloomed rugs, scarves, placemats, tablecloths, and other handloomed articles.

FOR FURTHER INFORMATION CONTACT: Anna Flaaten, International Trade Specialist, Office of Textiles and Apparel, U.S. Department of Commerce, (202) 482-3400.

SUPPLEMENTARY INFORMATION: The Committee for the Implementation of Textile Agreements (CITA) has previously determined that handloomed fabrics and handmade articles made from such handloomed fabrics from Kenya (67 FR 56805), Botswana (67 FR 67604), Lesotho (67 FR 70413), Malawi (67 FR 77055), Swaziland (68 FR 15438), Namibia (68 FR 18597) and Zambia (68 FR 44298), shall be treated as “handloomed, handmade, and folklore articles,” and qualify for duty-free treatment under the AGOA when accompanied by an appropriate AGOA Visa. This notice and the accompanying letter to the Commissioner of the Bureau of Customs and Border Protection, clarify these determinations, specifying that handloomed rugs, scarves, placemats, tablecloths, and other handloomed articles shall be treated as handloomed, handmade, and folklore articles under the AGOA. In the letter published below, CITA directs the Commissioner of the Bureau of Customs and Border Protection to allow entry of such products of Kenya, Botswana, Lesotho, Malawi, Swaziland, Namibia and Zambia under Harmonized Tariff Schedule provision 9819.11.27, when accompanied by an appropriate AGOA Visa in Grouping “9.”

James C. Leonard III,
Chairman, Committee for the Implementation of Textile Agreements.

Committee for the Implementation of Textile Agreements

July 31, 2003.

Commissioner,

Bureau of Customs and Border Protection, Washington, DC 20229.

Dear Commissioner: The Committee for the Implementation of Textile Agreements (CITA) has previously determined that handloomed fabrics and handmade articles made from such handloomed fabrics from Kenya (67 FR 56805), Botswana (67 FR 67604), Lesotho (67 FR 70413), Malawi (67 FR 77055), Swaziland (68 FR 15438), Namibia (68 FR 18597) and Zambia (68 FR 44298), shall be treated as “handloomed, handmade, and folklore articles” pursuant to Sections 112(b)(6) of the African Growth and Opportunity Act (Title I of Pub. L. No. 106-200)(AGOA) and Executive Order 13101 of January 17, 2001, and that such goods qualify for duty-free treatment under the AGOA when accompanied by an appropriate AGOA Visa, and has directed you to provide such treatment. This letter clarifies these determinations, specifying that handloomed rugs, scarves, placemats, tablecloths, and other handloomed articles shall be treated as handloomed, handmade, and folklore articles under the AGOA. CITA directs you to permit duty-free entry of such articles accompanied by the appropriate AGOA Visa in Grouping “9” and entered under heading 9819.11.27 of the Harmonized Tariff Schedule of the United States.

Sincerely,

James C. Leonard III,

Chairman, Committee for the Implementation of Textile Agreements.

[FR Doc. 03-19955 Filed 8-5-03; 8:45 am]

BILLING CODE 3510-DR-S